DEPARTMENT OF HEALTH AND HUMAN SERVICES

Substance Abuse and Mental Health Services Administration (SAMHSA)

Advisory Committee for Women's Services; Notice of a Meeting

Pursuant to Public Law 92-463, notice is hereby given of a meeting of the Substance Abuse and Mental Health Services Administration (SAMHSA) Advisory Committee for Women's Services on May 6, 2008.

The meeting is open and will include an overview of the history of SAMHSA's women's programs and a discussion on priority issues identified by the Advisory Committee for Women's Services at its September 2007 meeting.

Attendance by the public will be limited to the space available. Public comments are welcome. Please communicate with the Committee's Designated Federal Official, Ms. Carol Watkins (see contact information below) to make arrangements to comment or to request special accommodations for persons with disabilities.

Substantive program information, a summary of the meeting, and a roster of Committee members may be obtained either by accessing the SAMHSA Committee's Web site at https://www.nac.samhsa.gov/ as soon as possible after the meeting, or by contacting Ms. Watkins. The transcript for the meeting will also be available on the SAMHSA Committee's Web site within three weeks after the meeting.

Committee Name: SAMHSA Advisory Committee for Women's Services.

Date/Time/Type: Tuesday, May 6, 2008, from 9 a.m. to 12 p.m.: Open.

Place: 1 Choke Cherry Road, Seneca Conference Room, Rockville, Maryland 20857.

Contact: Carol Watkins, Designated Federal Official, SAMHSA Advisory Committee for Women's Services, 1 Choke Cherry Road, Room 8-1002, Rockville, Maryland 20857, Telephone: (240) 276-2254; FAX: (240) 276-1024 and E-mail: carol.watkin2@samhsa.hhs.gov.

Toian Vaughn,
Committee Management Officer, Substance Abuse and Mental Health Services Administration.

[FR Doc. E8-7950 Filed 4-14-08; 8:45 am]

BILLING CODE 4162-20-P